DEPARTMENT OF TRANSPORTATION

Federal Aviation Administration

14 CFR Part 39

[Docket No. FAA-2011-0912; Directorate Identifier 2011-NM-035-AD; Amendment 39-16962; AD 2012-04-06]

RIN 2120-AA64

Airworthiness Directives; 328 Support Services GmbH (Type Certificate Previously Held by AvCraft Aerospace GmbH; Fairchild Dornier GmbH; Dornier Luftfahrt GmbH) Airplanes

AGENCY: Federal Aviation Administration (FAA), Department of Transportation (DOT).

ACTION: Final rule.

SUMMARY: We are adopting a new airworthiness directive (AD) for all 328 Support Services GmbH (Type Certificate Previously Held by AvCraft Aerospace GmbH; Fairchild Dornier GmbH; Dornier Luftfahrt GmbH) Model 328-100 airplanes. This proposed AD was prompted by several runway excursion incidents and a single accident where the power lever could not be operated as intended during the landing roll-out on Model Dornier 328-100 airplanes. This proposed AD would require a modification of the engine control box assembly. We are proposing this AD to prevent runway excursion, which could result in damage to the airplane and injury to the occupants.

DATES: This AD becomes effective April 4, 2012.

The Director of the Federal Register approved the incorporation by reference of certain publications listed in this AD as of April 4, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Groves, Aerospace Engineer, International Branch, ANM-116, Transport Airplane Directorate, FAA, 1601 Lind Avenue SW., Renton, WA 98057-3356; telephone (425) 227-1503; fax (425) 227-1149.

SUPPLEMENTARY INFORMATION:

Discussion

We issued a notice of proposed rulemaking (NPRM) to amend 14 CFR part 39 to include an AD that would apply to the specified products. That NPRM was published in the Federal Register on August 31, 2011 (76 FR 54145). That NPRM proposed to correct an unsafe condition for the specified products. The MCAI states:

Several runway excursion incidents and a single accident have occurred in the past with Dornier 328-100 aeroplanes, where the power lever could not be operated as intended during the landing roll-out. * * *

Recurrence of such an event under similar conditions, if not corrected, could result in further cases of runway excursion, possibly resulting in damage to the aeroplane and injury to the occupants.

A modification to the power lever control box [i.e., engine control box assembly] has been designed to prevent further power lever handling difficulties.

For the reasons described above, this [EASA] AD requires a modification of the power lever control box as a retrofit for the entire fleet of 328-100 aeroplanes.

The required actions also include revising the airplane flight manual (AFM) to include Dornier 328-100 Temporary Revisions (TR) 04-078, 04-079, and 04-080, all dated March 15, 2010, to the Abnormal Procedures section of the Dornier (328 Support Services) 328-100 AFM; and Dornier 328-100 TRs 05-064, 05-065, and 05-066, all dated February 13, 2009, to the Normal Procedures section of the Dornier (328 Support Services) 328-100 AFM. You may obtain further information by examining the MCAI in the AD docket.

Comments

We gave the public the opportunity to participate in developing this AD. We considered the comment received.

Request To Change Work Hours

328 Support Services GmbH requested we revise the Cost of Compliance section of the NPRM (76 FR 54145, August 31, 2011). The commenter stated that the estimate of 79 work-hours specified in the NPRM is too low and should be changed to 99 work-hours as specified in 328 Support Services Service Bulletin SB-328-76-486, Revision 3, dated April 7, 2010.

We agree that the number of work hours required is higher than our previous estimate. The cost impact information in this AD has been revised to indicate this higher amount.

Conclusion

We reviewed the available data, including the comment received, and determined that air safety and the public interest require adopting the AD as proposed.

Differences Between This AD and the MCAI or Service Information

Although the MCAI specifies doing an inspection for discrepancies, 328 Support Services Service Bulletin SB-328-76-486, Revision 3, dated April 7, 2010, does not include this action. The off-wing inspection included in the MCAI is not required to address the unsafe condition. The modification addresses the identified unsafe condition. Therefore, this AD does not include that requirement.

Although the MCAI and service information do not include revising the AFM, this AD includes that requirement. The TRs specified below introduce pre-flight operational tests of the warning system modification, along with abnormal procedures that provide guidance to the flightcrew in the event of various potential warning system faults. These procedures must be adopted at the same time the modification is installed to ensure proper use and operation of the power lever warning system. This has been coordinated with EASA.

• Dornier 320-100 TR 04-078, dated March 15, 2010, for the nuisance power lever aural alert.

• Dornier 328-100 TR 04-079 and 04-080, both dated March 15, 2010, for the engine indication and crew alerting system (EICAS) caution “Proxi System.”

• Dornier 328-100 TRs 05-064, 05-065, and 05-066, all dated February 13, 2009, for the power level aural alert test.

Costs of Compliance

We estimate that this AD will affect 20 products of U.S. registry. We also estimate that it will take about 99 work-hours per product to comply with the basic requirements of this AD. The average labor rate is $85 per work-hour. Required parts will cost about $35,700 per product. Where the service information lists required parts costs that are covered under warranty, we have assumed that there will be no charge for these parts. As we do not control warranty coverage for affected parties, some parties may incur costs higher than estimated here. Based on these figures, we estimate the cost of this AD to the U.S. operators to be $882,300, or $44,115 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 54145, August 31, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-04-06 328 Support Services GmbH (Type Certificate Previously Held by AvCraft Aerospace GmbH; Fairchild Dornier GmbH; Dornier Luftfahrt GmbH): Amendment 39-16962. Docket No. FAA-2011-0912; Directorate Identifier 2011-NM-035-AD.

(a) Effective Date

This airworthiness directive (AD) becomes effective April 4, 2012.

(b) Affected ADs

None.

(c) Applicability

This AD applies to 328 Support Services GmbH (Type Certificate previously held by AvCraft Aerospace GmbH; Fairchild Dornier GmbH; Dornier Luftfahrt GmbH) Model 328-100 airplanes; all serial numbers; certificated in any category.

(d) Subject

Air Transport Association (ATA) of America Code 76: Engine Controls.

(e) Reason

This AD was prompted by several runway excursion incidents and a single accident where the power lever could not be operated as intended during the landing roll-out on Model Dornier 328-100 airplanes. We are issuing this AD to prevent runway excursion, which could result in damage to the airplane and injury to the occupants.

(f) Compliance

You are responsible for having the actions required by this AD performed within the compliance times specified, unless the actions have already been done.

(g) Modification

Within 15 months after the effective date of this AD, modify the engine control box assembly with additional aural alerting function and a revised power lever guiding gate, in accordance with the Accomplishment Instructions of 328 Support Services Service Bulletin SB-328-76-486, Revision 3, dated April 7, 2010.

(h) Credit for Previous Actions

This paragraph provides credit for the modification required by paragraph (g) of this AD, if the modification was performed before the effective date of this AD using 328 Support Services Service Bulletin SB-328-76-486, dated July 15, 2009; Revision 1, dated March 2, 2010; or Revision 2, dated March 11, 2010.

(i) Airplane Flight Manual Revisions

Concurrently with doing the modification required in paragraph (g) of this AD, revise the Dornier (328 Support Services) 328-100 Airplane Flight Manual (AFM) to include the information in the Dornier 328-100 temporary revisions (TRs) identified in paragraphs (i)(1), (i)(2), and (i)(3) of this AD. Operate the airplane according to the procedures in those TRs.

(1) For the power lever aural alert test:

(i) Dornier 328-100 TR 05-064, dated February 13, 2009, to the Normal Procedures section of the Dornier (328 Support Services) 328-100 AFM.

(ii) Dornier 328-100 TR 05-065, dated February 13, 2009, to the Normal Procedures section of the Dornier (328 Support Services) 328-100 AFM.

(iii) Dornier 328-100 TR 05-066, dated February 13, 2009, to the Normal Procedures section of the Dornier (328 Support Services) 328-100 AFM.

(2) For the nuisance power lever aural alert: Dornier 328-100 TR 4-078, dated March 15, 2010, to the Abnormal Procedures section of the Dornier (328 Support Services) 328-100 ATM.

(3) For the engine indication and crew alerting system (EICAS) caution “Proxi System:”

(i) Dornier 328-100 TR 04-079, dated March 15, 2010, to the Abnormal Procedures section of the Dornier (328 Support Services) 328-100 ATM.

(ii) Dornier 328-100 TR 04-080, dated March 15, 2010, to the Abnormal Procedures section of the Dornier (328 Support Services) 328-100 ATM.

Note 1 to paragraph (i) of this AD: Revising the AFM may be done by inserting copies of the TRs specified in paragraphs (i)(1), (i)(2), and (i)(3) of this AD, in the Dornier (328 Support Services) 328-100 AFM. When these TRs have been included in general revisions of this AFM, the general revisions may be inserted in the AFM, provided the relevant information in the general revision of this AFM is identical to that in the TRs specified in paragraphs (i)(1), (i)(2), and (i)(3) of this AD, and these TRs may be removed.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Groves, Aerospace Engineer, International Branch, ANM-116, Transport Airplane Directorate, FAA, 1601 Lind Avenue SW., Renton, Washington 98057-3356; telephone (425) 227-1503; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI EASA Airworthiness Directive 2009-0196, dated September 4, 2009; 328 Support Services Service Bulletin SB-328-76-486, Revision 3, dated April 7, 2010; and the TRs specified in paragraphs (i)(1), (i)(2), and (i)(3) of this AD; for related information.

(l) Material Incorporated by Reference

(1) You must use the following service information to do the actions required by this AD, unless the AD specifies otherwise. The Director of the Federal Register approved the incorporation by reference (IBR) of the following service information under 5 U.S.C. 552(a) and 1 CFR part 51:

(i) 328 Support Services Service Bulletin SB-328-76-486, Revision 3, dated April 7, 2010. The revision level and date of this document are shown only on the odd-numbered pages of the document.

(ii) Dornier 328-100 Temporary Revision 04-078, dated March 15, 2010, to the Abnormal Procedures section of the Dornier (328 Support Services) 328-100 Airplane Flight Manual.

(iii) Dornier 328-100 Temporary Revision 04-079, dated March 15, 2010, to the Abnormal Procedures section of the Dornier (328 Support Services) 328-100 Airplane Flight Manual.

(iv) Dornier 328-100 Temporary Revision 04-080, dated March 15, 2010, to the Abnormal Procedures section of the Dornier (328 Support Services) 328-100 Airplane Flight Manual.

(v) Dornier 328-100 Temporary Revision 05-064, dated February 13, 2009, to the Normal Procedures section of the Dornier (328 Support Services) 328-100 Airplane Flight Manual.

(vi) Dornier 328-100 Temporary Revision 05-065, dated February 13, 2009, to the Normal Procedures section of the Dornier (328 Support Services) 328-100 Airplane Flight Manual.

(vii) Dornier 328-100 Temporary Revision 05-066, dated February 13, 2009, to the Normal Procedures section of the Dornier (328 Support Services) 328-100 Airplane Flight Manual.

(2) For service information identified in this AD, contact 328 Support Services GmbH, Global Support Center, P.O. Box 1252, D-82231 Wessling, Federal Republic of Germany; telephone +49 8153 88111 6666; fax +49 8153 88111 6565; email gsc.op@328support.de; Internet http://www.328support.de.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on February 13, 2012.
Ali Bahrami,
Manager, Transport Airplane Directorate, Aircraft Certification Service.

[FR Doc. 2012-4362 Filed 2-28-12; 8:45 am]

BILLING CODE 4910-13-P